ENVIRONMENTAL PROTECTION AGENCY

40 CFR Part 52

[EPA-R06-OAR-2023-0647; FRL-12276-01-R6]

Air Plan Approval; Texas; Vehicle Inspection and Maintenance Plan for Bexar County

AGENCY: Environmental Protection Agency (EPA).

ACTION: Proposed rule.

SUMMARY: Pursuant to the Clean Air Act (CAA or the Act), the Environmental Protection Agency (EPA) is proposing to approve revisions to the Texas State Implementation Plan (SIP) submitted to the EPA by the Texas Commission on Environmental Quality (TCEQ or State) on December 18, 2023. The SIP revisions address Control of Air Pollution from Motor Vehicles and establish a Motor Vehicle Inspection and Maintenance (I/M) program for the San Antonio ozone nonattainment area. The revisions also update definitions and address options for displaying a vehicle's registration as proof of compliance with I/M requirements.

DATES: Written comments must be received on or before November 12, 2024.

ADDRESSES: Submit your comments, identified by Docket ID EPA-R06-OAR-2023-0647, at https://www.regulations.gov or via email to steib.clovis@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Mr. Clovis Steib, 214-665-7566, steib.clovis@epa.gov. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Mr. Clovis Steib, EPA Region 6 Office, Infrastructure and Ozone Section, 214-665-7566, steib.clovis@epa.gov. We encourage the public to submit comments via https://www.regulations.gov. Please call or email the contact listed above if you need alternative access to material indexed but not provided in the docket.

SUPPLEMENTARY INFORMATION: Throughout this document “we” and “our” means the EPA.

I. Background

Ground-level ozone, also known as “tropospheric ozone” or “smog,” is created when emissions of the ozone precursors, oxides of nitrogen (NOX) and volatile organic compounds (VOCs), react in the presence of sunlight and heat. EPA has established the ozone National Ambient Air Quality Standards (NAAQS) to protect public health, including the health of at-risk populations, with an adequate margin of safety. On October 1, 2015, EPA revised the ozone NAAQS to a level of 0.070 parts per million (ppm) (computed based on the annual fourth highest daily maximum 8-hour average concentration, averaged over 3 years).¹ The revised 2015 ozone NAAQS provide greater protection of public health and the environment than the previous ozone NAAQS of 0.075 ppm, set in 2008. Although the 2015 ozone NAAQS retain the same general form and averaging time as the NAAQS set in 2008, the lower level is more protective.

¹ See 80 FR 65296, October 26, 2015; and 40 CFR part 50, appendix U, for more information on the revised 2015 ozone NAAQS, including a detailed explanation of the calculation of the 3-year 8-hour average.

Effective September 24, 2018, Bexar County was designated as the San Antonio, Texas, nonattainment area ² and classified as a Marginal nonattainment area for the 2015 ozone NAAQS with an attainment deadline of September 24, 2021 (83 FR 35136, July 25, 2018).

² The “San Antonio nonattainment area” may also be referred to as the “Bexar County nonattainment area” and includes all of Bexar County. The surrounding counties in the San Antonio area: Atascosa, Bandera, Comal, Guadalupe, Kendall, Medina, and Wilson Counties are designated as attainment/unclassifiable.

On March 30, 2022, TCEQ adopted revisions to their SIP (Rule Project No. 2021-029-114-AI) that implement applicable sections of Senate Bill (SB) 604, 86th legislature 2019. The revisions expanded the compliance options for the display of vehicle registration insignia and incorporated minor changes to 30 Texas Administrative Code (TAC) chapter 114, Control of Air Pollution from Motor Vehicles, to comply with the Texas Transportation Code, chapter 504.

On October 7, 2022, EPA reclassified the San Antonio area from Marginal to Moderate effective November 7, 2022 (87 FR 60897). The CAA section 182(b)(4) and title 40 of the Code of Federal Regulations (CFR), part 51, subpart S, require the implementation of a Basic vehicle emissions I/M program ³ in certain urbanized ozone nonattainment areas classified as Moderate. The State is therefore required to implement an I/M program in Bexar County by November 7, 2026.⁴

³ The performance standard for Basic I/M programs in areas designated nonattainment for the 2015 ozone NAAQS includes, among other things, annual inspections of light-duty vehicles in a centralized test program by conducting idle testing of 1968-2000 Model Year (MY) subject vehicles and on-board diagnostics (OBD) checks on 2001 and newer subject vehicles (see 40 CFR 51.352(e)). An I/M performance standard is a collection of program design elements which defines a benchmark program to which a state's proposed program is compared in terms of its potential to reduce emissions of the ozone precursors, VOC, and NOX. Per the SIP, the Texas I/M program requires the annual OBD testing of gasoline-powered vehicles between 2-24 years old in the affected counties.

⁴ To satisfy the requirements of 40 CFR part 51, subpart S, § 51.350(a)(4).

On November 29, 2023, TCEQ adopted the Bexar County I/M SIP Revision (Non-Rule Project No. 2022-027-SIP-NR) and the associated revisions to 30 TAC Chapter 114 (Rule Project No. 2022-026-114-AI).

II. The Submitted SIP Revisions

On December 18, 2023, the TCEQ submitted an I/M Program plan (Non-Rule Project No. 2022-027-SIP-NR) and rulemaking revisions (Rule Project No. 2022-026-114-AI) that would ensure the State's implementation of the vehicle I/M program in the San Antonio nonattainment area by no later than November 1, 2026. The submitted revisions expand the State's existing I/M program into Bexar County. Additionally, the submitted revisions also incorporate minor changes from a prior 30 TAC chapter 114 rulemaking (Rule Project No. 2021-029-114-AI) that expand the options for displaying a vehicle's registration insignia to include digital license plates.

EPA determined on March 11, 2024, that the three submitted revisions addressed herein meet the SIP completeness criteria found in 40 CFR part 51, appendix V.⁵

⁵ Letter from Mr. David F. Garcia, Air and Radiation Division Director, EPA Region 6 to Mr. Jon Niermann, Chairman, Texas Commission on Environmental Quality (March 11, 2024), included in the docket for this action.

III. The EPA's Evaluation

A. Analysis of Submitted Bexar County I/M SIP Revision and Associated Revisions to 30 TAC Chapter 114

The submitted SIP revisions (Non-Rule Project No. 2022-027-SIP-NR) expand the State's I/M program into Bexar County and implement on-board diagnostics (OBD) inspections for vehicles subject to I/M program requirements beginning November 1, 2026. All vehicle emissions inspection stations in Bexar County will be required to offer the OBD inspections.

The submitted revisions (Rule Project No. 2022-026-114-AI and Rule Project No. 2021-029-114-AI) address 30 TAC chapter 114, subchapters A, C, and H. An analysis of the submitted revisions to chapter 114 are covered in detail in our Technical Support Document (TSD) included in the docket for this action. A summary of the revisions to 30 TAC chapter 114 grouped by subchapter is provided:

Subchapter A:

• The revisions to section 114.1 and 114.2 remove obsolete definitions and update the mail code in the Texas I/M SIP.⁶

⁶ The definitions are listed in the TSD in the docket for this proposed action.

Subchapter C:

• The revisions to sections 114.50 and 114.53, implement a new Bexar County I/M program, specifies the program start date and the model year vehicles to be tested, require that all vehicle emissions testing stations offer OBD tests, and establish fees.⁷

⁷ The revisions establish the maximum fee of $11.50 that Bexar County program area emissions inspection stations may charge for the OBD test. The adopted revisions would also require affected vehicle owners to remit $2.50 to the Texas Department of Motor Vehicles (DMV) or county tax assessor-collector at the time of annual vehicle registration as part of the vehicle emissions inspection fee to cover the costs to implement, maintain, administer, and enforce the required vehicle I/M program in Bexar County.

• The revisions to section 114.82 expand the options for proof of compliance with I/M requirements for motorists. It adds language to allow for different forms of proof of compliance with I/M requirements provided by the DPS and the DMV. The revisions allow for the display of a vehicle's registration insignia for certain commercial fleet or governmental entity vehicles on a digital license plate in lieu of attaching the registration insignia to the vehicle's windshield.

This action does not address the submitted revisions to subchapter H (30 TAC 114.309)—the State's Low RVP Program (Rule Project No. 2022-026-114-AI).⁸ These submitted revisions are severable and will be addressed in a future, separate EPA action.

⁸ These are the State's rules addressing gasoline with low Reid Vapor Pressure (RVP). For information on gasoline Reid vapor pressure, please visit https://www.epa.gov/gasoline-standards/gasoline-reid-vapor-pressure.

B. Analysis of Bexar County 2015 Ozone Nonattainment Area Performance Standard Modeling (PSM)

As mentioned previously, the San Antonio ozone nonattainment area was reclassified as Moderate under the 2015 standard, and therefore, must demonstrate through modeling that the area meets the Basic I/M requirements.⁹ PSM is a SIP submission requirement per the I/M rule at 40 CFR 51.372(a)(2). This rule requires states to provide a demonstration that the proposed vehicle emissions I/M program for a newly designated or reclassified ozone nonattainment area meets the emissions reduction benchmarks specified for the area's ozone NAAQS classification level. A PSM analysis is conducted to evaluate whether a proposed I/M program meets the applicable performance standard. The performance standards establish the level of emission reductions that mandatory I/M programs must meet or exceed. The TCEQ performed the required PSM analysis of the proposed Bexar County area I/M program ¹⁰ following the procedures in the EPA guidance document Performance Standard Modeling for New and Existing Vehicle Inspection and Maintenance (I/M) Programs Using the MOVES Mobile Source Emissions Model (EPA-420-B-22-034, October 2022). For the benchmark or model program to which Bexar County's proposed Basic I/M program will be compared, TCEQ correctly selected the Basic performance standard for areas designated nonattainment for the 8-hour ozone standard detailed in 40 CFR 51.352(e). TCEQ used EPA's Mobile Vehicle Emissions Simulator, version 3.1 (MOVES3.1) ¹¹ to conduct the analyses in March 2023, using 2026 as the analysis year—the Bexar County program implementation year under the 2015 ozone NAAQS. The documentation of the PSM assessments is provided in attachment B, chapter 2 of the State's December 18, 2023, submittal, and a summary of the results are provided in attachment B, chapter 3 of the submittal. Copies of the modeling summary are included in the docket ¹² for this action. After reviewing TCEQ's PSM analysis, EPA concludes that TCEQ has demonstrated that the Basic I/M performance standard is met in the Bexar County subject I/M area and that the analysis was completed consistent with EPA's 2022 PSM guidance.

⁹ 87 FR 60897.

¹⁰ See Attachment B: Inspection and Maintenance (I/M) Program Performance Standard Modeling (PSM) for the New I/M Program in the Bexar County 2015 Ozone Nonattainment Area of the State's December 18, 2023, submittal package.

¹¹ MOVES 3.1 was the most current version available to TCEQ in March 2023 (released 12/9/2022). It's successor, MOVES4, was released in September of 2023.

¹² See Docket EPA-R06-OAR-2023-0647.

Table 1 below presents mass unit modeling results (in tons per day or tpd) of TCEQ's PSM comparison of the proposed Bexar County area's I/M program to the benchmark program of the Basic performance standard. The emission levels (in tpd) of the ozone precursors, NOX and VOC, for the proposed I/M program are lower than the emissions from the benchmark program for the Basic I/M performance standard.

¹³ See Table 3-1: Summary of 2026 Performance Standard Evaluation for the Bexar County 2015 Ozone NAAQS Nonattainment Area Proposed I/M Program (tons per day) on page 12 of the TCEQ summary document.

Table 1—Summary of 2026 Performance Standard Evaluation for the Bexar County 2015 Ozone NAAQS Nonattainment Area New I/M Program
[Tons per day] ¹³
Pollutant | New I/M program emissions | Performance standard benchmark basic I/M program emissions | Does new program meet I/M performance standard?
NOX | 15.01 | 15.16 | Yes.
VOC | 8.85 | 9.41 | Yes.

Therefore, we are proposing that the Bexar County I/M program be approved into the SIP because the proposed I/M program meets the Basic I/M performance standard for the 2015 ozone NAAQS.

IV. Proposed Action

EPA is proposing to approve the following revisions to the Texas SIP, submitted to the EPA on December 18, 2023: 30 TAC chapter 114, subchapter A, sections 114.1 and 114.2, and subchapter C, sections 114.50, 114.53, and 114.82. The submitted revisions describe and demonstrate how CAA requirements for a Basic vehicle I/M program (CAA section 182(b)(4) and 40 CFR part 51, subpart S) meets the requirements for 2015 ozone NAAQS for the San Antonio ozone nonattainment area; and incorporates minor changes for the display of a vehicle's registration insignia. This proposed action is being taken pursuant to section 110 and part D of the CAA.

V. Environmental Justice Considerations

For this proposed action, The EPA conducted screening analyses using the EPA's Environmental Justice (EJ) screening tool (EJScreen tool, version 2.2).¹⁴ The EPA reviewed environmental and demographic data of the populations living within the San Antonio area. The EPA then compared these data to the national average for each of the environmental and demographic groups. The results of this analysis are being provided for informational and transparency purposes.

¹⁴ See https://www.epa.gov/ejscreen.

Review of the environmental analyses indicate that the San Antonio ozone nonattainment area is above the 80th percentile for Particulate Matter 2.5, Ozone, and Superfund Proximity. A detailed description of the EJ considerations and the EJScreen analysis reports are available in the docket for this rulemaking.

VI. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

This proposed action would strengthen measures in the current SIP by implementing a vehicle inspection and maintenance program in the San Antonio area. As such, at a minimum, this action would not worsen any existing air quality and is expected to ensure that the San Antonio nonattainment area is meeting requirements to attain and/or maintain air quality standards. Further, there is no information in the record indicating this action is expected to have disproportionately high or adverse human health or environmental effects on a particular group of people. The EPA performed an environmental justice analysis, as described earlier in this action under “Environmental Justice Considerations.” The analysis was done for the purpose of providing additional context and information about this proposal to the public, not as a basis of the action.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Ozone, Volatile organic compounds.

Authority: 42 U.S.C. 7401 et seq.

Dated: October 3, 2024.
Earthea Nance,
Regional Administrator, Region 6.

[FR Doc. 2024-23340 Filed 10-10-24; 8:45 am]

BILLING CODE 6560-50-P